DEPARTMENT OF THE INTERIOR

National Park Service

Fire Management Plan, Draft Environmental Impact Statement, Chiricahua National Monument, AZ

AGENCY: National Park Service, Department of the Interior.

ACTION: Notice of availability of the draft environmental impact statement for the Fire Management Plan, Chiricahua National Monument.

SUMMARY: Pursuant to the National Environmental Policy Act of 1969, 42 U.S.C. 4332(c), the National Park Service announces the availability of draft Environmental Impact Statement for the Fire Management Plan, Chiricahua National Monument, Arizona.

DATES: The National Park Service will accept comments from the public on the Draft Environmental Impact Statement for January 10, 2005. No public meetings are scheduled at this time.

ADDRESSES: Information will be available for public review and comment in the office of the Superintendent, Alan Whalon, Chiricahua National Monument, at 13063 E. Bonita Canyon Road, Willcox, AZ 85643.

FOR FURTHER INFORMATION CONTACT: Ecologist, Carrie Dennett, Chiricahua National Monument, (520) 824-3560 ext. 308. Additional information may be requested by phone at (520) 824-3560 or through e-mail at CHIR_resource_management@nps.gov.

SUPPLEMENTARY INFORMATION: If you wish to comment, you may submit your comments by any one of several methods. You may mail comments to Chiricahua National Monument, 13063 E. Bonita Canyon Road, Willcox, AZ 85643. You may also comment via the Internet to CHIR_resource_management@nps.gov. Please submit Internet comments as an ASCII file avoiding the use of special characters and any form of encryption. Please also include “Attn: Ecologist” and your name and return address in your Internet message. If you do not receive a confirmation from the system that we have received your Internet message, contact us directly at Ecologist, (520) 824-3560 ext. 308. Finally, you may hand-deliver comments to 13063 E. Bonita Canyon Road, Willcox, AZ, 85643. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: August 25, 2004.
Steve Martin,
Director, Intermountain Region, National Park Service.

[FR Doc. 04-24985 Filed 11-9-04; 8:45 am]

BILLING CODE 4312-07-P